DEPARTMENT OF TRANSPORTATION

Federal Aviation Administration

Notice of Intent of Waiver With Respect to Land; Bemidji Regional Airport, Bemidji, Minnesota

AGENCY: Federal Aviation Administration (FAA), DOT.

ACTION: Notice.

SUMMARY: The FAA is considering a proposal to change approximately 1.37 acres of airport land from aeronautical use to non-aeronautical use and to authorize the sale of airport property located at Bemidji Regional Airport, Bemidji, Minnesota. The aforementioned land is not needed for aeronautical use. The subject parcel is located on the southeast side of the airport and is used for agricultural purposes. The airport sponsor proposes selling the property to the City of Bemidji for road right-of-way and a roadway/roundabout.

DATES: Comments must be received on or before August 18, 2025.

ADDRESSES: All requisite and supporting documentation will be made available for review by appointment at the FAA Dakota-Minnesota Airports District Office, Mark Schrader, Program Manager, 2301 University Drive, Bld. 23B, Bismarck, North Dakota. Telephone: (701) 323-7384.

Written comments on the Sponsor's request may be submitted using any of the following methods:

• Federal eRulemaking Portal: Go to http://www.regulations.gov and follow the instructions for sending your comments electronically.

• Mail: Mark Schrader, Program Manager, Federal Aviation Administration, Dakota-Minnesota Airports District Office, 2301 University Drive, Bld. 23B, Bismarck, ND 58504.

• Hand Delivery: Deliver to mail address above between 8 a.m. and 5 p.m. Monday through Friday, excluding Federal holidays.

FOR FURTHER INFORMATION CONTACT: Mark Schrader, Program Manager, Federal Aviation Administration, Dakota-Minnesota Airports District Office, 2301 University Drive, Bld. 23B, Bismarck, North Dakota. Telephone Number: (701) 323-7384.

SUPPLEMENTARY INFORMATION: In accordance with section 47107(h) of Title 49, United States Code, this notice is required to be published in the Federal Register 30 days before modifying the land-use assurance that requires the property to be used for an aeronautical purpose.

The subject property is located within Airport Parcels 1 and 2 and is currently used for agricultural purposes and approach surface protection. Airspace rights will be retained for continued approach surface protection. A portion of the airport perimeter road and fence are also located within the subject property. The Minnesota Department of Transportation will construct a new fence and new perimeter road along the adjusted airport property boundary once the subject property is released from airport property. Airport Parcel 1 was incorporated into city limits by Ordinance 338, dated August 2, 1949. Airport Parcel 2 was acquired in 1977 with Airport Development Aid Program (ADAP) grant number ADAP-01. An appraisal of the approximate 1.37-acre property was conducted and the airport sponsor will receive fair market value for the proposed sale.

The disposition of proceeds from the sale of this airport property will be in accordance with section 47107(b) of Title 49, United States Code.

This notice announces that the FAA is considering the release of the subject airport property at the Bemidji Regional Airport, Bemidji, Minnesota from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description

All those parts of Government Lot 2, Section 6, Township 146 North, Range 33 West, and the Southwest Quarter of the Southeast Quarter and the Southeast Quarter of the Southwest Quarter of Section 31, Township 147 North, Range 33 West, all in Beltrami County, Minnesota, described as follows:

Beginning at the Right of Way Boundary Corner B118, MINNESOTA DEPARTMENT OF TRANSPORTATION RIGHT OF WAY PLAT NO. 04-5, according to the recorded plat thereof; thence North 68 degrees 58 minutes 25 seconds West, assigned bearing along northeasterly right of way line of said plat, a distance of 425.38 feet to Right of Way Boundary Corner B17; thence North 58 degrees 10 minutes 28 seconds West, along said northeasterly right of way line, a distance of 177.79 feet; thence North 31 degrees 15 minutes 08 seconds East, 88.22 feet; thence South 58 degrees 15 minutes 03 seconds East, 120.25 feet; thence southeasterly 93.21 feet along a tangential curve concave to the northeast, having a radius of 498.00 feet, and a central angle of 10 degrees 43 minutes 26 seconds; thence South 68 degrees 58 minutes 29 seconds East, tangent to the last described curve, 353.38 feet; thence southeasterly and southerly 171.36 feet along a tangential curve concave to the southwest, having a radius of 147.00 feet, and a central angle of 66 degrees 47 minutes 28 seconds, to the northeasterly right of way line of MINNESOTA DEPARTMENT OF TRANSPORTATION RIGHT OF WAY PLAT NO. 04-2, according to the recorded plat thereof; thence North 68 degrees 58 minutes 25 seconds West, along said northeasterly right of way line, a distance of 114.94 feet to the point of beginning.

Issued in Minneapolis, Minnesota on July 15, 2025.
E. Lindsay Terry,
Manager, Dakota-Minnesota Airports District Office, FAA, Great Lakes Region.

[FR Doc. 2025-13466 Filed 7-17-25; 8:45 am]

BILLING CODE 4910-13-P